DEPARTMENT OF DEFENSE

Department of the Army

Intent To Grant an Exclusive or Partially Exclusive License to Whithner Corporation

AGENCY: U.S. Army Research Laboratory, DoD.

ACTION: Notice of Intent.

SUMMARY: In compliance with 37 CFR 404 et seq., the Department of the Army hereby gives notice of its intent to grant to Stevens Institute of Technology, a New Jersey Corporation with principal offices at Castle Point on Hudson, Hoboken, New Jersey 07030, and Technology Holdings, LLC, a limited liability company, organized and existing under the laws of the state of New Jersey, which has been granted a worldwide right to grant sublicenses of the manufacture, use and sale of all patents and copyrights held in the name of Stevens Institute of Technology, with principal offices at One Castle Point Terrace, Hoboken, New Jersey 07030 an exclusive license relative to an ARL technology. The technology to be licensed is PCT application PCT/US99/02158 filed February 1, 1999 and all national phase applications for the designated countries and any patents issuing therefrom including any and all continuations, continuations-in-part, divisions, reissues, reexamination, renewals or extensions thereof. The intellectual property licensed in this agreement shall generally be known as “Procedure for Detecting Lesion-induced Resonances in DNA using Millimeter or Submillimeter Wave Spectroscopy.”

Anyone wishing to object to the granting of this license has 60 days from the date of this notice to file written objections along with supporting evidence, if any.

FOR FURTHER INFORMATION CONTACT: Michael Rause, U.S. Army Research Laboratory, Office of Research and Technology Applications, ATTN: AMSRL-CS-TT/Bldg. 459, Aberdeen Proving Ground, Maryland 21005-5425, Telephone: (410) 278-5028.

SUPPLEMENTARY INFORMATION: None.

Gregory D. Showalter,
Army Federal Register Liaison Officer.

[FR Doc. 00-19128 Filed 7-27-00; 8:45 am]

BILLING CODE 5710-08-M